GENERAL SERVICES ADMINISTRATION

[Notice-MA-2017-01; Docket No. 2017-0002, Sequence No. 3]

Federal Travel Regulation; Relocation Allowances—Relocation Income Tax Allowance Tables

AGENCY: Office of Government-wide Policy (OGP), General Services Administration (GSA).

ACTION: Notice of a bulletin.

SUMMARY: The purpose of this notice is to inform agencies that FTR Bulletin 17-03 pertaining to Relocation Allowances—Relocation Income Tax (RIT) Allowance Tables is now available online at www.gsa.gov/ftrbulletin.

DATES: Effective: May 8, 2017.

FOR FURTHER INFORMATION CONTACT: Mr. Rick Miller, Office of Asset and Transportation Management (MAE), OGP, GSA, at 202-501-3822 or via email at rodney.miller@gsa.gov. Please cite FTR Bulletin 17-03.

SUPPLEMENTARY INFORMATION: GSA published FTR Amendment 2008-04 in the Federal Register at 73 FR 35952 on June 25, 2008, specifying that GSA would no longer publish the RIT Allowance tables in Title 41 of the Code of Federal Regulations, Part 302-17, Appendices A through D (FTR prior to January 1, 2015— www.gsa.gov/federaltravelregulation—FTR and Related Files); instead, the tables would be available on a GSA Web site. FTR Bulletin 17-03: Relocation Allowances—Relocation Income Tax (RIT) Allowance Tables is now available and provides the annual changes to the RIT allowance tables necessary for calculating the amount of a transferee's increased tax burden due to his or her official permanent change of station. GSA published FTR Amendment 2014-01 in the Federal Register on August 21, 2014, (79 FR 49640), which eliminated the need for the Government-unique tax tables for relocations that began on January 1, 2015 and later. However, for relocations that began earlier than January 1, 2015, this bulletin is required to compute the employee's reimbursement for additional income taxes associated with the relocation. For relocations that began on or after January 1, 2015, transferees and agencies must use the tables published by the U.S. Internal Revenue Service (IRS), state, and local tax authorities, and follow the procedures in the FTR, Part 302-17. FTR Bulletin 17-03 and all other FTR Bulletins can be found at www.gsa.gov/ftrbulletin.

Giancarlo Brizzi,
Acting Associate Administrator, Office of Government-wide Policy, General Services Administration.

[FR Doc. 2017-09236 Filed 5-5-17; 8:45 am]

BILLING CODE 6820-14-P